DEPARTMENT OF STATE

[Public Notice: 5771]

60-Day Notice of Proposed Information Collection: DS-230, Application for Immigrant Visa and Alien Registration, OMB Number 1405-0015

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Application for Immigrant Visa and Alien Registration.

• OMB Control Number: 1405-0015.

• Type of Request: Extension of a Currently Approved Collection.

• Originating Office: Bureau of Consular Affairs, Department of State (CA/VO).

• Form Number: DS-230.

• Respondents: Immigrant visa applicants.

• Estimated Number of Respondents: 475,000 per year.

• Estimated Number of Responses: 475,000 per year.

• Average Hours per Response: 2 hours.

• Total Estimated Burden: 950,000 hours per year.

• Frequency: Once per respondent.

• Obligation to Respond: Required to Obtain or Retain a Benefit.

DATE(S): The Department will accept comments from the public up to 60 days from April 13, 2007.

ADDRESSES: You may submit comments by any of the following methods:

• E-mail: VisaRegs@state.gov (Subject line must read DS-230 Reauthorization).

• Mail (paper, disk, or CD-ROM submissions): Chief, Legislation and Regulation Division, Visa Services—DS-1884 Reauthorization, 2401 E. Street, NW., Washington DC 20520-30106.

• Fax: (202) 663-3898.

You must include the DS form number (if applicable), information collection title, and OMB control number in any correspondence.

FOR FURTHER INFORMATION CONTACT: Direct requests for additional information regarding the collection listed in this notice, including requests for copies of the proposed information collection and supporting documents, to Lauren Prosnik of the Office of Visa Services, U.S. Department of State, 2401 E. Street, NW., L-603, Washington, DC 20522, who may be reached at (202) 663-2951 or prosnikla@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Form DS-230 is used to elicit information to determine the eligibility of aliens applying for immigrant visas.

Methodology:

The information will be collected in person at posts.

Dated: March 30, 2007.
Stephen A. Edson,
Deputy Assistant Secretary for Bureau of Consular Affairs, Department of State.

[FR Doc. E7-7043 Filed 4-12-07; 8:45 am]

BILLING CODE 4710-06-P